SECURITIES AND EXCHANGE COMMISSION

[Release No. 34-88026; File No. SR-CboeBZX-2019-044]

Self-Regulatory Organizations; Cboe BZX Exchange, Inc.; Notice of Withdrawal of a Proposed Rule Change To Allow the JPMorgan Core Plus Bond ETF of the J.P. Morgan Exchange-Traded Fund Trust To Hold Certain Instruments in a Manner That May Not Comply With Rule 14.11(i), Managed Fund Shares

January 23, 2020.

On May 15, 2019, Cboe BZX Exchange, Inc. (“BZX” or the “Exchange”) filed with the Securities and Exchange Commission (“Commission”), pursuant to Section 19(b)(1) of the Securities Exchange Act of 1934 (“Act”) ¹ and Rule 19b-4 thereunder,² a proposed rule change to allow the JPMorgan Core Plus Bond ETF of the J.P. Morgan Exchange-Traded Fund Trust to hold certain instruments in a manner that may not comply with BZX Rule 14.11(i) (Managed Fund Shares). The proposed rule change was published for comment in the Federal Register on June 3, 2019.³ On July 10, 2019, pursuant to Section 19(b)(2) of the Act,⁴ the Commission designated a longer period within which to approve the proposed rule change, disapprove the proposed rule change, or institute proceedings to determine whether to approve or disapprove the proposed rule change.⁵ On August 22, 2019, the Commission instituted proceedings pursuant to Section 19(b)(2)(B) of the Act ⁶ to determine whether to approve or disapprove the proposed rule change.⁷ On November 12, 2019, the Commission designated a longer period within which to issue an order approving or disapproving the proposed rule change.⁸ The Commission received no comments on the proposed rule change. On January 22, 2020, the Exchange withdrew the proposed rule change.

¹ 15 U.S.C. 78s(b)(1).

² 17 CFR 240.19b-4.

³ See Securities Exchange Act Release No. 85948 (May 28, 2019), 84 FR 25579.

⁴ 15 U.S.C. 78s(b)(2).

⁵ See Securities Exchange Act Release No. 86348, 84 FR 34040 (July 16, 2019). The Commission designated September 1, 2019, as the date by which the Commission shall approve, disapprove, or institute proceedings to determine whether to approve or disapprove the proposed rule change.

⁶ 15 U.S.C. 78s(b)(2)(B).

⁷ See Securities Exchange Act Release No. 86737, 84 FR 45184 (Aug. 28, 2019).

⁸ See Securities Exchange Act Release No. 87510, 84 FR 63699 (Nov. 18, 2019). The Commission designated January 29, 2020, as the date by which the Commission shall either approve or disapprove the proposed rule change.

⁹ 17 CFR 200.30-3(a)(12).

For the Commission, by the Division of Trading and Markets, pursuant to delegated authority.⁹
Jill M. Peterson,
Assistant Secretary.

[FR Doc. 2020-01519 Filed 1-28-20; 8:45 am]

BILLING CODE 8011-01-P